DEPARTMENT OF HOMELAND SECURITY

Federal Emergency Management Agency

44 CFR Part 67

[Docket No. FEMA-B-7457]

Proposed Flood Elevation Determinations

AGENCY: Federal Emergency Management Agency (FEMA), Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Mitigation Division, Federal Emergency Management Agency, 500 C Street SW., Washington, DC 20472, (202) 646-2903.

SUPPLEMENTARY INFORMATION: FEMA proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Federal Emergency Management Agency certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be amended as follows:

Flooding source(s) | Location of referenced elevation | *Elevation in feet (NGVD) +Elevation in feet (NAVD) #Depth in feet above ground: Effective | *Elevation in feet (NGVD) +Elevation in feet (NAVD) #Depth in feet above ground: Modified | Communities affected
Dixie County, Florida and Incorporated Areas
Suwannee River | Approximately 14.4 miles downstream of U.S. Route 19 | +13 | +12 | Dixie County (Unincorporated Areas).
| Approximately 2.8 miles upstream of County Highway 340 | +29 | +28
+North American Vertical Datum.
ADDRESSES
Unincorporated Areas of Dixie County:
Maps are available for inspection at the Dixie County Planning and Zoning Department, 405 Southeast 22nd Avenue, Cross City, Florida.
Send comments to Mr. Marcus Hays, Chairman of the Dixie County Board of Commissioners, P.O. Box 2600, Cross City, Florida 32628.
Escambia County, Florida and Incorporated Areas
Tributary to Elevenmile Creek | Approximately 750 feet upstream of the confluence with Elevenmile Creek | None | +36 | Escambia County (Unincorporated Areas).
| Approximately 2.83 miles upstream of the confluence with Elevenmile Creek | None | +74 |
Carpenters Creek | Approximately 1,120 feet upstream of 12th Avenue | None | +10 | Escambia County (Unincorporated Areas).
| Approximately 1,833 feet upstream of Interstate 10 | None | +84 |
Tributary to Carpenters Creek | At the confluence with Carpenters Creek | None | +64 | Escambia County (Unincorporated Areas).
| Approximately 1,260 feet upstream of Dirt Road | None | +84 |
Tributary to Bridge Creek (West) | At the confluence with Bridge Creek | None | +16 | Escambia County (Unincorporated Areas).
| Approximately 2,650 feet upstream of the confluence with Bridge Creek | None | +24 |
Tributary to Bridge Creek (East) | At the confluence with Bridge Creek | None | +16 | Escambia County (Unincorporated Areas).
| Approximately 2,500 feet upstream of confluence with Bridge Creek | None | +20 |
Tributary 1 to Bayou Grande | At the confluence with Bayou Grande | None | +9 | Escambia County (Unincorporated Areas).
| Approximately 1,000 feet upstream of Blue Angel Parkway | None | +20 |
Tributary 2 to Bayou Grande | At the confluence with Bayou Grande | None | +7 | Escambia County (Unincorporated Areas).
| Approximately 2,200 feet upstream of Gulf Beach Boulevard | None | +20 |
Tributary 3 to Bayou Grande | At the confluence with Bayou Grande | None | +7 | Escambia County (Unincorporated Areas).
| Approximately 0.8 mile upstream of Blue Angel Parkway | None | +26 |
Tributary 4 to Bayou Grande | At the confluence with Bayou Grande | None | +7 | Escambia County (Unincorporated Areas).
| Approximately 2,750 feet upstream of the confluence with Bayou Grande | None | +16 |
+North American Vertical Datum.
ADDRESSES
Pensacola, City of:
Maps available for inspection at the City of Pensacola Inspection Services, 14 West Jordan Street, Pensacola, Florida 32501.
Send comments to Mr. Tom Bonfield, Pensacola City Manager, P.O. Box 12910, Pensacola, Florida 32521.
Escambia County (Unincorporated Areas):
Maps available for inspection at the Escambia County Building Inspections, 3300 North Pace Boulevard, Suite 300, Pensacola, Florida 32505.
Send comments to Mr. George Touart, Escambia County Administrator, P.O. Box 1591, Pensacola, Florida 32591.
Gilchrist County, Florida and Incorporated Areas
Suwannee River | Approximately 1.7 miles downstream of U.S. Route 19 | +20 | +19 | Fanning Springs (City), Gilchrist County (Unincorporated Areas).
| Approximately 8.2 miles upstream of Highway 340 | +32 | +31 |
Santa Fe River | Approximately 2.8 miles upstream of State Route 47 | +38 | +37 | Gilchrist County (Unincorporated Areas).
| Approximately 5.9 miles upstream of State Route 47 | +41 | +40 |
+North American Vertical Datum.
ADDRESSES
Fanning Springs, City of:
Maps available for inspection at the Fanning Springs City Hall, 17651 Northwest 90th Court, Fanning Springs, Florida 32693.
Send comments to The Honorable Carol J. McQueen, Mayor of the City of Fanning Springs, 17651 Northwest 90th Court, Fanning Springs, Florida 32693.
Gilchrist County (Unincorporated Areas):
Maps available for inspection at the Gilchrist County Building and Zoning Department, 209 Southeast First Street, Trenton, Florida 32690.
Send comments to Mr. Randy Durden, Chairman of the Gilchrist Board of Commissioners, P.O. Box 37, Trenton, Florida 32693.
Lafayette County, Florida and Incorporated Areas
Suwannee River | Approximately 14.5 miles downstream of U.S. Highway 27 | +29 | +28 | Lafayette County (Unincorporated Areas).
| Approximately 10,000 feet upstream of County Road 250 | +60 | +59
+North American Vertical Datum.
Unincorporated Areas of Lafayette County:
Maps available for inspection at the Lafayette County Building and Zoning Department, 120 West Main Street, Mayo, Florida 32066.
Send comments to Mr. Curtiss Hamlin, Chairman of the Lafayette County Board of Commissioners, P.O. Box 88, Mayo, Florida 32066.
Santa Rosa County, Florida and Incorporated Areas
Pace Mill Creek | Approximately 1,300 feet downstream of U.S. Route 90 | +11 | +12 | Lafayette County (Unincorporated Areas).
| At downstream side of Chumuckla Highway | None | +127
+North American Vertical Datum.
ADDRESSES
Milton, City of:
Maps available for inspection at City of Milton Planning and Development Department, 6738 Dixon Street, Milton, Florida.
Send comments to The Honorable Guy Thompson, Mayor of the City of Milton, P.O. Box 909, Milton, Florida 32572.
Santa Rosa County, Unincorporated Areas:
Maps available for inspection at the Santa Rosa County Public Services Department, 6051 Old Bagdad Highway, Milton, Florida.
Send comments to Mr. Hunter Walker, Santa Rosa County Administrator, 6495 Caroline Street, Suite D, Milton, Florida 32570-4592.
Floyd County, Georgia and Incorporated Areas
Booze Creek | Approximately 350 feet upstream of the confluence with Silver Creek | +637 | +638 | Floyd County (Unincorporated Areas).
| Approximately 840 feet upstream of the confluence with Silver Creek | +637 | +638 |
Big Dry Creek | Just upstream of Martha Berry Road | None | +597 | Floyd County (Unincorporated Areas).
| At the confluence of Tributary 1 to Big Dry Creek | None | +597 | City of Rome.
Big Dry Creek Tributary | At the confluence with Big Dry Creek | None | +597 | Floyd County (Unincorporated Areas).
| Approximately 2,500 feet upstream of CCC Road | None | +604 | City of Rome.
Big Dry Creek Tributary 2 | At confluence with Tributary 1 to Big Dry Creek | None | +597 | Floyd County (Unincorporated Areas).
| Approximately 200 feet upstream of Lindsey Road NW | None | +603 | City of Rome.
Silver Creek | At the confluence with Etowah River | +597 | +596 | City of Rome.
| Approximately 2,000 feet upstream of the confluence with Etowah River | +597 | +596 |
South Fork Horseleg | At the confluence with Horseleg Creek | +607 | +608 | Floyd County (Unincorporated Areas).
| Approximately 100 feet upstream of the confluence with Horseleg Creek | +607 | +608 | City of Rome
#Depth in feet above ground.
* National Geodetic Vertical Datum.
+North American Vertical Datum.
¹ The existing elevation data included on the effective FIRM is printed in the elevation datum of the National Geodetic Vertical Datum of 1929 (NGVD29). In order to convert this printed elevation data from the NGVD29 datum to the NAVD88 datum, please add 0.12 feet.
ADDRESSES
Floyd County (Unincorporated Areas):
Maps are available for inspection at Rome-Floyd County Building Inspection Department, 607 Road Street, Rome, Georgia.
Send comments to The Honorable Chuck Hufstetler, Chairman, Floyd County Board of Commissioners, Post Office Box 946, 12 East 4th Avenue, Rome, Georgia 30162.
City of Rome, Floyd County, Georgia:
Maps are available for inspection at Rome-Floyd County Building Inspection Department, 607 Broad Street, Rome, Georgia.
Send comments to The Honorable Ronald L. Wallace, Mayor, City of Rome, 601 Broad Street, Post Office Box 1433, Rome, Georgia.
Gwinnett County, Georgia and Incorporated Areas
Alcovy River | At the county boundary | +780 | +784 | Gwinnett County (Unincorporated Areas).
| Approximately 4,420 feet upstream of Old Fountain Road | None | +1074 |
Alcovy River Tributary A | At the confluence with Alcovy River | +789 | +795 | Gwinnett County (Unincorporated Areas).
| Approximately 3,615 feet upstream of Callie Still Road | None | +844 |
Alcovy River Tributary B | At the confluence with Alcovy River | +991 | +989 | Gwinnett County (Unincorporated Areas).
| Approximately 2,055 feet upstream of Hood Road | None | +1,012 |
Apalachee River | At the county boundary | None | +823 | Gwinnett County (Unincorporated Areas).
| Approximately 12,240 feet upstream of Old Fountain Road | None | +1,107 |
Apalachee River Tributary No. 1 | At the county boundary | None | +826 | Gwinnett County (Unincorporated Areas).
| Approximately 4,615 feet upstream of Bold Springs Road | None | +992 |
Apalachee River Tributary No. 3 | At the confluence with Apalachee River | None | +887 | Gwinnett County (Unincorporated Areas).
| Approximately 2,325 feet upstream of Old Freemans Mill Road | None | +942 |
Apalachee River Tributary No. 4 | At the confluence with Apalachee River | None | +908 | Gwinnett County (Unincorporated Areas).
| Approximately 5,900 feet upstream of Bailey Road | None | +966
Bay Creek | At the county boundary | None | +794 | Gwinnett County (Unincorporated Areas).
| Approximately 590 feet upstream of Briscoe Road | None | +960
Beaver Ruin Creek | At the confluence with Sweetwater Creek | +858 | +862 | City of Norcross Gwinnett County (Unincorporated Areas).
| Approximately 2,690 feet upstream of Everglades Trail | None | +978
Beaver Ruin Creek Tributary No. 1 | At the confluence with Beaver Ruin Creek | +902 | +905 | Gwinnett County (Unincorporated Areas).
| Approximately 200 feet upstream of Live Oak Parkway | None | +983
Beaver Ruin Creek Tributary No. 2 | At the confluence with Beaver Ruin Creek | +932 | +933 | City of Norcross Gwinnett County (Unincorporated Areas).
| Approximately 150 feet upstream of North Norcross Tucker Road | None | +963
Bell Creek | At the confluence with Suwanee Creek | +924 | +926 | City of Suwanee Gwinnett County (Unincorporated Areas).
| Approximately 1,280 feet upstream of Lake Louella Dam | None | +974
Berkeley Lake (Mill Creek Tributary (Stream 6.1)) | Entire shoreline | None | +977 | City of Berkeley Lake.
| At the county boundary | +847 | +849
Big Haynes Creek | Approximately 100 feet upstream of Hillside Drive | None | +956 | City of Snellville Gwinnett County (Unincorporated Areas).
| At the confluence with Big Haynes Creek | +885 | +883
Big Haynes Creek Tributary A | Approximately 1,490 feet upstream of Athens Highway/U.S. Highway 78/State Highway 10 | None | +945 | City of Snellville Gwinnett County (Unincorporated Areas).
| At the confluence with Beaver Ruin Creek | +864 | +866
Bromolow Creek | Approximately 5,450 feet upstream of Old Norcross Road | None | +979 | City of Duluth Gwinnett County (Unincorporated Areas).
| At the confluence with Bromolow Creek | +890 | +889
Bromolow Creek Tributary No. 1 | Approximately 1,560 feet upstream of U.S. Highway 231/State Highway 13/Buford Highway | +979 | +979 | Gwinnett County (Unincorporated Areas).
| At the confluence with Bromolow Creek Tributary No. 1 | +912 | +913
Bromolow Creek Tributary No. 1.1 | Approximately 200 feet upstream of Bailey Drive | None | +963 | Gwinnett County (Unincorporated Areas).
Brushy Creek | Approximately 3,080 feet upstream of the confluence with the Chattahoochee River | +909 | +910 | City of Suwanee Gwinnett County (Unincorporated Areas).
| Approximately 130 feet upstream of Suwanee Dam Road Northwest | None | +1,014
Brushy Fork Creek | At the confluence with Big Haynes Creek | +848 | +850 | Gwinnett County (Unincorporated Areas).
| Approximately 1,890 feet upstream of Athens Highway/U.S. Highway 78/State Highway 10 | None | +980
Brushy Fork Creek Tributary A | At the confluence with Brushy Creek | None | +915 | Gwinnett County (Unincorporated Areas).
| Approximately 1,650 feet upstream of SCS Dam 22 | None | +949
Camp Creek | Approximately 600 feet upstream of the confluence with Jackson Creek | +868 | +869 | City of Lilburn Gwinnett County (Unincorporated Areas).
| At the county boundary | +949 | +947
Camp Creek Tributary No. 1 | At the confluence with Camp Creek | +908 | +909 | City of Lilburn Gwinnett County (Unincorporated Areas).
| Approximately 320 feet upstream of Harmony Grove Road | None | +950
Cedar Creek Northwest | At the confluence with Alcovy River | +951 | +952 | Gwinnett County (Unincorporated Areas).
| Just upstream of Progress Center Avenue | +997 | +1,000
Cedar Creek Northwest Tributary | At the confluence with Cedar Creek Northwest | None | +989 | City of Lawrenceville Gwinnett County (Unincorporated Areas).
| Approximately 4,950 feet above the confluence with Cedar Creek Northwest | None | +1,012
Cedar Creek Southeast | At the county boundary | None | +793 | Gwinnett County (Unincorporated Areas).
| Approximately 1,555 feet upstream of New Hope Road | None | +891
Centerville Creek | Approximately 560 feet upstream of the confluence with the Yellow River | None | 748 | Gwinnett County (Unincorporated Areas).
| Approximately 770 feet upstream of Johnson Drive | None | +857 |
Crooked Creek | At the county boundary | +885 | +887 | Gwinnett County (Unincorporated Areas).
| Approximately 3,280 feet upstream of Peachtree Corners Circle | None | +912 |
Crooked Creek Tributary A | At the confluence with Crooked Creek | +893 | +896 | Gwinnett County (Unincorporated Areas).
| Approximately 4,520 feet upstream of James Mill Road | None | +941 |
Crooked Creek Tributary No. 1 | At the confluence with Crooked Creek | +904 | +902 | Gwinnett County (Unincorporated Areas).
| Approximately 1,900 feet upstream of the confluence with Crooked Creek | +922 | +918 |
Crooked Creek Tributary No. 2 | Approximately 200 feet upstream of the confluence with Crooked Creek | +907 | +906 | Gwinnett County (Unincorporated Areas).
| Approximately 600 feet upstream of Engineering Drive | +962 | +958 |
Crooked Creek Tributary No. 2.1 | At the confluence with Crooked Creek Tributary No. 2 | +919 | +923 | City of Norcross Gwinnett County (Unincorporated Areas).
| Approximately 515 feet upstream of Sunset Drive (upstream crossing) | +974 | +971 |
Crooked Creek Tributary No. 2.1.1 | At confluence with Crooked Creek Tributary No. 2.1 | +942 | +944 | City of Norcross.
| Approximately 2,000 feet upstream of Olde Town Park Drive | None | +986 |
Do Little Creek | At the confluence with No Business Creek | +759 | +760 | Gwinnett County (Unincorporated Areas).
| Approximately 655 feet upstream of Snow Trail | None | +854 |
Doc Moore Branch | At the confluence with No Business Creek | +742 | +746 | Gwinnett County (Unincorporated Areas).
| Approximately 450 feet upstream of Brittan Glade Trail | None | +814 |
Drowning Creek (Apalachee River Tributary No. 2) | At the confluence with Apalachee River | None | +858 | City of Dacula Gwinnett County.
| Just upstream of State Highway 316 | None | +1,001 | (Unincorporated Areas).
Duncan Creek | Approximately 260 feet downstream of the Gwinnett/Barrow County boundary | None | +816 | Town of Braselton Gwinnett County (Unincorporated Areas).
| Approximately 2,290 feet upstream of East Rock Quarry Road | None | +1,080 |
Garner Creek | At the confluence with the Yellow River | +825 | +826 | Gwinnett County (Unincorporated Areas).
| Approximately 250 feet upstream of Lilburn Stone Mountain Road | None | +988 |
Garner Creek Tributary No. 1 | At the confluence with Garner Creek | +940 | +939 | Gwinnett County (Unincorporated Areas).
| Approximately 940 feet upstream of Breathitt Drive | None | +981 |
Garner Creek Tributary No. 2 | Approximately 60 feet upstream of the confluence with Garner Creek | +962 | +963 | Gwinnett County (Unincorporated Areas).
| Approximately 1,635 feet upstream of the confluence with Garner Creek | None | +982 |
Hale Creek | At the confluence with Garner Creek | +861 | +864 | City of Lilbrun Gwinnett County (Unincorporated Areas).
| Approximately 440 feet upstream of Lilburn Stone Mountain Road | None | +935 |
Hale Creek Tributary | At the confluence with Hale Creek | +867 | +870 | Gwinnett County (Unincorporated Areas).
| Approximately 980 feet upstream of Baltimore Avenue | None | +908 |
Hopkins Creek | At the confluence with Alcovy River | +868 | +871 | City of Dacula Gwinnett County (Unincorporated Areas).
| Approximately 1,320 feet upstream of Fence Road | +1,008 | +1,009 |
Ivy Creek | At the confluence with Suwanee Creek | +952 | +956 | City of Suwanee Gwinnett County (Unincorporated Areas).
| Approximately 160 feet upstream of Thompson Mill Road | None | +1,121 |
Ivy Creek Tributary | At the confluence with Ivy Creek | +1,040 | +1,044 | Gwinnett County (Unincorporated Areas).
| Approximately 160 feet upstream of Camp Branch Road | None | +1,129 |
Jacks Creek | At the confluence with the Yellow River | +787 | +788 | Gwinnett County (Unincorporated Areas).
| Approximately 620 feet upstream of Parkwood Drive | None | +954 |
Garner Creek Tributary No. 2 | Approximately 60 feet upstream of the confluence with Garner Creek | +962 | +963 | Gwinnett County (Unincorporated Areas).
| Approximately 1,635 feet upstream of the confluence with Garner Creek | None | +982 |
Hale Creek | At the confluence with Garner Creek | +861 | +864 | City of Lilburn Gwinnett County (Unincorporated Areas).
| Approximately 440 feet upstream of Lilburn Stone Mountain Road | None | +935 |
Hale Creek Tributary | At the confluence with Hale Creek | +867 | +870 | Gwinnett County (Unincorporated Areas).
| Approximately 980 feet upstream of Baltimore Avenue | None | +908 |
Hopkins Creek | At the confluence with Alcovy River | +868 | +871 | City of Dacula Gwinnett County (Unincorporated Areas).
| Approximately 1,320 feet upstream of Fence Road | +1,008 | +1,009 |
Ivy Creek | At the confluence with Suwanee Creek | +952 | +956 | City of Suwanee Gwinnett County (Unincorporated Areas).
| Approximately 160 feet upstream of Thompson Mill Road | None | +1,121 |
Ivy Creek Tributary | At the confluence with Ivy Creek | +1,040 | +1,044 | Gwinnett County (Unincorporated Areas).
| Approximately 160 feet upstream of Camp Branch Road | None | +1,129 |
Jacks Creek | At the confluence with the Yellow River | +787 | +788 | Gwinnett County (Unincorporated Areas).
| Approximately 620 feet upstream of Parkwood Drive | None | +954 |
Jackson Creek | At the confluence with Sweetwater Creek | +853 | +858 | City of Lilburn Gwinnett County (Unincorporated Areas).
| Just upstream of Old Norcross Tucker Road | None | +960 |
Jackson Creek Tributary No. 1 | At the confluence with Jackson Creek | +894 | +893 | Gwinnett County (Unincorporated Areas).
| Approximately 275 feet upstream of Button Gwinnett Place | None | +935 |
Jackson Creek Tributary No. 2 | At the confluence with Jackson Creek | +904 | +903 | Gwinnett County (Unincorporated Areas).
| Just upstream of Meadow Brook Drive | None | +957 |
Knox Branch | At the confluence with Sweetwater Creek | None | +939 | City of Duluth Gwinnett County (Unincorporated Areas).
| Just downstream of Lake Norman Dam | None | +962 |
Lake Norman (Knox Branch) | Entire shoreline | None | +992 | City of Duluth.
Lake No. 1 (Little Suwanee Creek Tributary | Entire shoreline | None | +989 | Gwinnett County (Unincorporated Areas).
Lake No. 2 (Sweetwater Creek) | Entire shoreline | None | +961 | Gwinnett County (Unincorporated Areas).
Lanier Creek | At the confluence with Bromolow Creek | +865 | +866 | Gwinnett County (Unincorporated Areas).
| Approximately 375 feet upstream of Interstate Highway 85 | None | +926 |
Lee Daniel Creek | At the confluence with Sweetwater Creek | +877 | +879 | Gwinnett County (Unincorporated Areas).
| Approximately 520 feet upstream of Sugarloaf Parkway | None | +987 |
Lee Daniel Creek Tributary No. 1 | At the confluence with Lee Daniel Creek | +882 | +884 | Gwinnett County (Unincorporated Areas).
| Approximately 270 feet upstream of Duluth Highway/State Highway 120 | None | +953 |
Lee Daniel Creek Tributary No. 1.1 | Approximately 30 feet upstream of the confluence with Lee Daniel Creek Tributary No. 1 | +913 | +914 | Gwinnett County (Unincorporated Areas).
| Approximately 870 feet upstream of Sugarloaf Parkway | None | +949 |
Level Creek | Approximately 2,200 feet upstream of the Confluence with the Chattahoochee River | +914 | +915 | City of Sugar Hill City of Suwanee Gwinnett County (Unincorporated Areas).
| Just upstream of Peachtree Industrial Boulevard | None | +1,048 |
Level Creek Tributary No. 1 | At the confluence with Level Creek | +952 | +955 | City of Suwanee Gwinnett County (Unincorporated Areas).
| Just upstream of Suwanee Dam Road | None | +1,007 |
Level Creek Tributary No. 2 | At the confluence with Level Creek | +972 | +973 | City of Sugar Hill Gwinnett County (Unincorporated Areas).
| Approximately 170 feet upstream of Sugar Ridge Drive | None | +1,022 |
Little Ivy Creek | At the confluence with Ivy Creek | +1,018 | +1,023 | Gwinnett County (Unincorporated Areas).
| Approximately 160 feet of Ivy Lake Drive | None | +1,141 |
Little Mulberry River | Approximately 160 feet downstream of the county boundary | None | +833 | Gwinnett County (Unincorporated Areas).
| Approximately 350 feet upstream of Millwater Crossing | None | +988 |
Little Mulberry River Tributary A | At the confluence with Little Mulberry River | None | +844 | Gwinnett County (Unincorporated Areas).
| Approximately 260 feet upstream of Mineral Springs Road | None | +987
Little Mulberry River Tributary B | At the confluence with the Little Mulberry River | None | +847 | Gwinnett County (Unincorporated Areas).
| Approximately 165 feet upstream of Hog Mountain Road | None | +931
Little Mulberry River Tributary C | At the confluence with Little Mulberry River | None | +857 | Gwinnett County (Unincorporated Areas).
| Approximately 545 feet upstream of Hog Mountain Road | None | +885
Little Mulberry River Tributary D | At the confluence with Little Mulberry River | None | +894 | Gwinnett County (Unincorporated Areas).
| Approximately 260 feet upstream of Hog Mountain Road | None | +898
Little Mulberry River Tributary E | At the confluence with Little Mulberry River | None | +894 | Gwinnett County (Unincorporated Areas).
| Approximately 560 feet upstream of Patrick Road | None | +932
Little Suwanee Creek | At the confluence with Yellow River | +932 | +933 | City of Lawrenceville Gwinnett County (Unincorporated Areas).
| Approximately 590 feet upstream of Buford Drive/State Highway 20 | None | +1,072
Little Suwanee Creek Tributary No. 1 | At the confluence with Little Suwanee Creek | +956 | +954 | Gwinnett County (Unincorporated Areas).
| Just downstream of SCS Dam Y-16 | None | +966
Lucky Shoals Creek | At the confluence with Jackson Creek | None | +930 | Gwinnett County (Unincorporated Areas).
| Just upstream of Old Norcross Tucker Road | None | +952
Mill Creek | At the confluence with Suwanee Creek | +927 | +929 | City of Suwanee Gwinnett County (Unincorporated Areas).
| Just upstream of Satellite Boulevard | None | +991
Mill Creek (Stream 6) | Approximately 930 feet upstream of the confluence with the Chattahoochee River | None | +898 | Gwinnett County (Unincorporated Areas).
| Just upstream of Bush Road | None | +913
Mill Creek Tributary (Stream 6.1) | Approximately 140 feet upstream of the confluence with Mill Creek (Stream 6) | None | +898 | City of Berkeley Lake Gwinnett County (Unincorporated Areas).
| Approximately 260 feet upstream of Bayway Circle | None | +975
Mitchell Creek | At the county boundary | None | +1,014 | Gwinnett County (Unincorporated Areas).
| Approximately 910 feet upstream of South Puckett Lane | None | +1,133
No Business Creek | Approximately 895 feet downstream of the county boundary | +740 | +741 | City of Snellville Gwinnett County (Unincorporated Areas).
| Approximately 840 feet upstream of Scenic Highway/State Highway 124 | +1,012 | +1,010
No Business Creek Tributary No. 1 | Approximately 900 feet upstream of the confluence with No Business Creek | +899 | +900 | City of Snellville Gwinnett County (Unincorporated Areas).
| Approximately 280 feet upstream of Green Valley Road | None | +930
North Fork Peachtree Creek | At the county boundary | +928 | +931 | Gwinnett County (Unincorporated Areas).
| Approximately 1,370 feet upstream of Greenwood Drive | None | +980
Palm Creek | At the confluence with Alcovy River | +790 | +796 | Gwinnett County (Unincorporated Areas).
| Approximately 3,410 feet upstream of Brooks Road | None | +960
Palm Creek Tributary A | At the confluence with Palm Creek | None | +851 | Gwinnett County (Unincorporated Areas).
| Approximately 1,690 feet upstream of Brooks Road | None | +926
Pew Creek | Approximately 200 feet upstream of the confluence with Yellow River | +873 | +874 | City of Lawrenceville Gwinnett County (Unincorporated Areas).
| Approximately 150 feet upstream of Stone Mountain Street | None | +1,012
Pew Creek Tributary No. 1 | At the confluence with Pew Creek | +958 | +962 | City of Lawrenceville.
| Approximately 330 feet upstream of Scenic Highway/State Highway 124 | None | +991
Pounds Creek | At the confluence with Yellow River | +814 | +815 | Gwinnett County (Unincorporated Areas).
| Approximately 1,290 feet upstream of Brownlee Road | None | +958
Redland Creek | At the confluence with Pew Creek | +886 | +889 | City of Lawrenceville Gwinnett County (Unincorporated Areas).
| Approximately 280 feet upstream of Northdale Road/Redland Court | None | +1,029
Richland Creek | Approximately 160 feet upstream of the confluence with the Chattahoochee River | None | +918 | City of Buford City of Sugar Hill Gwinnett County (Unincorporated Areas).
| Just upstream of Cole Road | None | +1,095
Richland Creek Tributary No. 1 | At the confluence with Richland Creek | None | +952 | Gwinnett County (Unincorporated Areas).
| Just upstream of Stewart Road | None | +1,013
Richland Creek Tributary No. 2 | At the confluence with Richland Creek | None | +1,008 | City of Buford Gwinnett County (Unincorporated Areas).
| Just upstream of Pine Hollow Way | None | +1,036
Rock Creek | At the county boundary | None | +960 | Gwinnett County (Unincorporated Areas).
| Approximately 5,080 feet upstream of Bailey Road | None | +1,000
Rogers Creek | Approximately 1,940 feet upstream of the confluence with the Chattahoochee River | +902 | +903 | City of Duluth Gwinnett County (Unincorporated Areas).
| Approximately 4,375 feet upstream of Bridlewood Drive | None | +1,035
Salmon Branch | At the confluence with Pounds Creek | +826 | +827 | Gwinnett County (Unincorporated Areas).
| Approximately 610 feet upstream of Ridgeland Court | None | +870
Sherwood Creek | At the county boundary | None | +921 | Gwinnett County (Unincorporated Areas).
| Approximately 1,950 feet upstream of West Rock Quarry road | None | +963
Shetley Creek | At the confluence with Bromolow Creek | +892 | +893 | Gwinnett County (Unincorporated Areas).
| Approximately 260 feet upstream of Castlerock Drive | None | +940
Shoal Creek | At the confluence with Alcovy River | +826 | +832 | City of Lawrenceville Gwinnett County (Unincorporated Areas).
| Approximately 1,980 feet upstream of Ezzard Street | +985 | +986
Singleton Creek | At the confluence with Sweetwater Creek | +886 | +885 | Gwinnett County (Unincorporated Areas).
| Approximately 4,970 feet upstream of Duluth Highway/State Highway 120 | +926 | +947
Stream 1 | Approximately 550 feet upstream of the confluence the with Chattahoochee River | None | +887 | Gwinnett County (Unincorporated Areas).
| Approximately 500 feet upstream of Allenhurst Drive | None | +931
Stream 2 | Approximately 510 feet upstream of the confluence with the Chattahoochee River | +888 | +889 | Gwinnett County (Unincorporated Areas).
| Approximately 2,500 feet upstream of Jones Bridge Circle | None | +949
Stream 3 | Approximately 1,540 feet upstream of the confluence with the Chattahoochee River | +891 | +892 | Gwinnett County (Unincorporated Areas).
| Approximately 3,115 feet upstream of Edgerton Drive | None | +942
Stream 4 | Approximately 900 feet upstream of the confluence with the Chattahoochee River | +893 | +894 | Gwinnett County (Unincorporated Areas).
| Approximately 440 feet upstream of Avala Park Lane | None | +957
Stream 5 | Approximately 1,640 feet upstream of the confluence with the Chattahoochee River | +897 | +898 | Gwinnett County (Unincorporated Areas).
| Approximately 265 feet upstream of Bush Road | None | +918
Stream 8 | Approximately 1,030 feet upstream of the confluence with the Chattahoochee River | None | +900 | City of Duluth.
| Just upstream of Howell Springs Drive | None | +970
Stream 10 | Approximately 1,540 feet upstream of the confluence with the Chattahoochee River | +907 | +908 | City of Duluth Gwinnett County (Unincorporated Areas).
| Approximately 2,310 feet upstream of Buford Highway/U.S. Highway 23/State Highway 13 | None | +1,025
Sugar Lake (Singleton Creek) | Entire shoreline | None | +949 | Gwinnett County (Unincorporated Areas).
Suwanee Creek | Approximately 3,300 feet upstream of the confluence with the Chattahoochee River | +909 | +908 | City of Buford, City of Rest Haven, City of Suwanee, Gwinnett County (Unincorporated Areas).
| At the county boundary | None | +1,113
Suwanee Creek Tributary No. 1 | At the confluence with Suwanee Creek | +910 | +911 | City of Duluth Gwinnett County (Unincorporated Areas).
| Approximately 590 feet upstream of Buford Highway/U.S. Highway 23/State Highway 13 | None | +942
Suwanee Creek Tributary No. 2 | Approximately 700 feet upstream of the confluence with the Suwanee Creek | +998 | +997 | City of Buford.
| Just upstream of Buford Highway/State | None | +1,024
Suwanee Creek Tributary No. 3 | At the confluence with Suwanee Creek | +1,024 | +1,025 | City of Buford.
| Approximately 170 feet upstream of Roberts Street | None | +1,071
Suwanee Creek Tributary No. 4 | At the confluence with Suwanee Creek | +1,060 | +1,059 | City of Buford, City of Rest Haven
| At the county boundary | None | +1,081
Sweetwater Creek | At the confluence with the Yellow River | +851 | +855 | Gwinnett County (Unincorporated Areas).
| Just upstream of Bristol Lane | None | +961
Sweetwater Creek Tributary No. 1 | At the confluence with Sweetwater Creek | +862 | +864 | Gwinnett County (Unincorporated Areas).
| Approximately 355 feet upstream of Cruse Road | None | +891
Sweetwater Creek Tributary No. 2 | At the confluence with Sweetwater Creek | +869 | +874 | Gwinnett County (Unincorporated Areas).
| Approximately 1,300 feet upstream of Sweetwater Road | None | +887
Swilling Creek | Approximately 1,600 feet upstream of the confluence with the Chattahoochee River | +900 | +899 | City of Duluth.
| Approximately 1,620 feet upstream of Tree Summit Parkway | None | +976
Swilling Creek Tributary | At the confluence with Swilling Creek | +928 | +927 | City of Duluth.
| Approximately 140 feet upstream of South Whippoorwill Drive | None | +972
Tribble Creek | At the confluence with Alcovy River | +803 | +807 | Gwinnett County (Unincorporated Areas).
| Approximately 1,520 feet upstream of Leach Drive | None | +932
Tribble Creek Tributary A | At the confluence with Tribble Creek | None | +896 | Gwinnett County (Unincorporated Areas).
| Approximately 2,690 feet upstream of Chandler Road | None | +929
Tribble Creek Tributary B | At the confluence with Tribble Creek | None | +932 | Gwinnett County (Unincorporated Areas).
| Approximately 145 feet upstream of McConell Road | None | +957
Turkey Creek | At the confluence with the Yellow River | +832 | +836 | Gwinnett County (Unincorporated Areas).
| Approximately 530 feet upstream of Highpoint Road | None | +950
Unnamed Tributary to North Fork Peachtree Creek | Approximately 1,525 feet downstream of Crescent Drive | None | +934 | Gwinnett County (Unincorporated Areas).
| Approximately 2,375 feet upstream of Best Friend Road | None | +965
Watson Creek | At the confluence with the Yellow River | +831 | +834 | City of Snellville Gwinnett County (Unincorporated Areas)
| Approximately 7,040 feet upstream of Bruckner Boulevard | None | +999
Watson Creek Tributary | At the confluence with Watson Creek | +903 | +907 | Gwinnett County (Unincorporated Areas).
| Approximately 360 feet upstream of Highpoint Road | None | +945
Wheeler Creek | Approximately 320 feet downstream of the county boundary | None | +837 | Gwinnett County (Unincorporated Areas).
| Approximately 420 feet upstream of Flowery Branch Road | None | +930
Wildcat Creek | Approximately 980 feet downstream of Russell Road | +968 | +969 | Gwinnett County (Unincorporated Areas).
| Approximately 300 feet upstream of Russell Road | None | +980
Wolf Creek | At the confluence with Yellow River | +902 | +903 | Gwinnett County (Unincorporated Areas).
| Approximately 560 feet upstream of Tab Roberts Road | None | +963
Yellow River | At the county boundary | +745 | +744 | City of Lawrenceville Gwinnett County
| Approximately 165 feet upstream of Azalea Drive | None | +1,087
Yellow River Tributary No. 1 | At the confluence with Yellow River | +852 | +856 | Gwinnett County (Unincorporated Areas).
| Approximately 965 feet upstream of Shannon Way | None | +932
Yellow River Tributary No. 2 | At the confluence with Yellow River | +853 | +857 | Gwinnett County (Unincorporated Areas).
| Approximately 225 feet upstream of Innsfail Drive | None | +981
Yellow River Tributary No. 3 | At the confluence with Yellow River | +866 | +870 | Gwinnett County (Unincorporated Areas).
| Approximately 210 feet upstream of Sugarloaf Parkway | None | +978
Yellow River Tributary No. 3.1 | At the confluence with Yellow River Tributary No. 3 | +891 | +892 | Gwinnett County (Unincorporated Areas).
| Approximately 305 feet upstream of Rocky Road | None | +938
# Depth in feet above ground.
* National Geodetic Vertical Datum.
+ National American Vertical Datum.
¹ The existing elevation data included on the effective FIRM is printed in the elevation datum of the National Geodetic Vertical Datum of 1929 (NGVD29). In order to convert this printed elevation data from the NGVD29 datum To the NAVD88 datum please add 0.118 feet.
ADDRESSES
City of Berkeley Lake, Gwinnett County, Georgia:
Maps are available for inspection at City Hall, 4040 South Berkeley Lake Road, Berkeley Lake, Georgia.
Send comments to The Honorable Lois Salter, Mayor, City of Berkeley Lake, 4040 South Berkeley Lake Road, Berkeley Lake, Georgia 30096.
Town of Braselton, Gwinnett County, Georgia:
Maps are available for inspection at Braselton Town Hall, 4982 Highway 53, Braselton, Georgia.
Send comments to The Honorable Pat Graham, Mayor, Town of Braselton, Town Hall, 4982 Highway 53, Post Office Box 306, Braselton, Georgia 30517.
City of Buford, Gwinnett County, Georgia:
Maps are available for inspection at City Hall, 95 Scott Street, Buford, Georgia.
Send comments to The Honorable Phillip Beard, Mayor, City of Buford, City Hall, 95 Scott Street, Buford, Georgia 30518.
City of Dacula, Gwinnett County, Georgia:
Maps are available for inspection at Dacula City Hall, 442 Harbins Road, Dacula, Georgia.
Send comments to The Honorable Jimmy Wilbanks, Mayor, City of Dacula, 442 Harbins Road, Post Office Box 400, Dacula, Georgia 30019.
City of Duluth, Gwinnett County, Georgia:
Maps are available for inspection at the Planning Department, 3578 West Lawrenceville Street, Duluth, Georgia.
Send comments to The Honorable Shirley Fanning-Lasseter, Mayor, City of Duluth, 3578 West Lawrenceville Street, Duluth, Georgia 30096.
Gwinnett County (Unincorporated Areas), Georgia:
Maps are available for inspection at Gwinnett County, One Justice Square, 446 West Crogan Street, Suite 275, Lawrenceville, Georgia.
Send comments to The Honorable Charles E. Bannister, Chairman, Gwinnett County Board of Commissioners, 75 Langley Drive, Lawrenceville, Georgia 30045.
City of Lawrenceville, Gwinnett County, Georgia:
Maps are available for inspection at 70 South Clayton Street, Lawrenceville, Georgia.
Send comments to The Honorable Bobby Sikes, Mayor, City of Lawrenceville, Post Office Box 2200, 70 South Clayton Street, Lawrenceville, Georgia 30046.
City of Lilburn, Gwinnett County, Georgia:
Maps are available for inspection at 76 Main Street, Lilburn, Georgia.
Send comments to The Honorable Jack Bolton, Mayor, City of Lilburn, 76 Main Street, Lilburn, Georgia 30047.
City of Norcross, Gwinnett County, Georgia:
Maps are available for inspection at City Hall-Community Development Department, 65 Lawrenceville Street, Norcross, Georgia.
Send comments to The Honorable Lillian Webb, Mayor, City of Norcross, 65 Lawrenceville Street, Norcross, Georgia 30071.
City of Rest Haven, Gwinnett County, Georgia:
Maps are available for inspection at the City of Rest Haven, 101 City Hall Street, Buford, Georgia.
Send comments to The Honorable Kenneth Waycaster, Mayor, City of Rest Haven, 428 Thunder Road, Buford, Georgia 30518.
City of Snellville, Gwinnett County, Georgia:
Maps are available for inspection at the Planning Office, 2460 Main Street East, Snellville, Georgia.
Send comments to The Honorable Jerry Oberholtzer, Mayor, City of Snellville, 2460 Main Street East, Post Office Box 844, Snellville, Georgia 30078.
City of Sugar Hill, Gwinnett County, Georgia:
Maps are available for inspection at Sugar Hill-Planning and Development, 4988 West Broad Street, Sugar Hill, Georgia.
Send comments to The Honorable Gary Pirkle, Mayor, City of Sugar Hill, 4988 West Broad Street, Sugar Hill, Georgia 30518.
City of Suwanee, Gwinnett County, Georgia:
Maps are available for inspection at the Planning and Community Development, 373 Highway 23, Suwanee, Georgia.
Send comments to The Honorable Nick Masino, Mayor, City of Suwanee, 373 Highway 23, Suwanee, Georgia 30024.
Hall County, Georgia and Incorporated Areas
Balus Creek Tributary No. 1 | At confluence with Balus Creek | +1,100 | +1,101 | City of Gainesville, City of Oakwood.
| Approximately 380 feet upstream of the confluence with Balus Creek | +1,100 | +1,101
Duncan Creek | At the county boundary | +878 | None | Hall County (Unincorporated Areas) Town of Braselton.
| Approximately 1,550 feet upstream of Spout Springs Road | +960 | None
Flat Creek Tributary No. 1 | At confluence with Flat Creek | +1,157 | +1,158 | Hall County (Unincorporated Areas) City of Gainesville.
| Approximately 340 feet upstream of the confluence with Flat Creek | +1,157 | +1,158
Sherwood Creek | Approximately 950 feet upstream of its confluence with Mulberry Creek | +842 | +843 | Hall County (Unincorporated Areas).
| At the county boundary | +920 | +922
| At the county boundary | None | +1,112 | Hall County (Unincorporated Areas).
Suwanee Creek
| Approximately 105 feet upstream of the county boundary | None | +1,119
| At the county boundary | None | +1,082 | Hall County (Unincorporated Areas).
Suwanee Creek Tributary No. 4 | Approximately 300 feet upstream of the county boundary | None | +1,082 | Town of Rest Haven.
# Depth in feet above ground.
* National Geodetic Vertical Datum.
+ National American Vertical Datum.
¹ The existing elevation data included on the effective FIRM is printed in the elevation datum of the National Geodetic Vertical Datum of 1929 (NGVD29). In order to convert this printed elevation data from the NGVD29 datum to the NAVD88 datum, please add 0.06 feet.
ADDRESSES
Town of Braselton, Hall County, Georgia:
Maps are available for inspection at Braselton Town Hall, 4982 Highway 53, Braselton, Georgia.
Send comments to The Honorable Pat Graham, Mayor, Town of Braselton, Town Hall, 4982 Highway 53, Braselton, Georgia 30517.
City of Gainesville, Hall County, Georgia:
Maps are available for inspection at the Department of Public Works, 300 Green Street, Suite 300, Gainesville, Georgia.
Send comments to The Honorable George Wangemann, Mayor, City of Gainesville, 300 Green Street, Suite 303, Gainesville, Georgia 30503.
Hall County (Unincorporated Areas), Georgia:
Maps are available for inspection at the Hall County Engineer Division, 300 Green Street, Room 309, Gainesville, Georgia.
Send comments to The Honorable Tom Oliver, Chairman, Hall County Board of Commission 116 Spring Street, Post Office Drawer 1435, Gainesville, Georgia 30501.
City of Oakwood, Hall County, Georgia:
Maps are available for inspection at City Hall, 4035 Walnut Circle, Oakwood, Georgia.
Send comments to The Honorable Lamar Scroggs, Mayor, City of Oakwood, 4035 Walnut Circle, Oakwood, Georgia 30566.
City of Rest Haven, Hall County, Georgia:
Maps are available for inspection at the City of Rest Haven, 101 City Hall, Buford, Georgia.
Send Comments to The Honorable Kenneth Waycaster, Mayor, City of Rest Haven, 428 Thunder Road, Buford, Georgia 30518.
Bernalillo County, New Mexico and Incorporated Areas.
Boca Negra Arroyo | Approximately 1,600 feet upstream of the confluence of Boca Negra Arroyo and Middle Tributary of Boca Negra Arroyo | None | +5,215 | Bernalillo County (Unincorporated Areas).
| Approximately 2,600 feet upstream of the intersection of Faciel Rd. and Boca Negra Arroyo | None | +5,436
Borrega Stream | Approximately 2,270 feet downstream from Perdiz Street | #3 | +4,925 | Bernalillo County (Unincorporated Areas).
| Approximately 1,550 feet upstream of 118th Street | +5,218 | +5,210
Calabacillas Arroyo | Confluence with Rio Grande and Calabacillas Arroyo | +5,012 | +5,009 | Bernalillo County (Unincorporated Areas).
| Upstream 5400 feet of the intersection of Pratt St. NW and Navajo Dr. NW | +5,403 | +5,402
Embudo Arroyo | Approximately 250 feet downstream of the intersection of Tramway Blvd and Embudo Arroyo | None | +5,838 | Bernalillo County (Unincorporated Areas).
| Approximately 375 feet downstream of the intersection of Menaul Blvd. and Embudo Arroyo | #1 | +6,004
Frost Arroyo | Approximately 125 feet northeast of intersection of Paa Ko Golf Dr. and North 14 | None | +6,421 | Bernalillo County (Unincorporated Areas).
| Confluence with San Pedro Creek | +6,579 | +6,583
Juniper Hill Arroyo | Approximately 500 feet downstream of the intersection of Eagle Nest Dr. and Juniper Hill Arroyo | #2 | +6,260 | Bernalillo County (Unincorporated Areas).
| Approximately 875 feet upstream of the intersection of Eagle Nest Dr. and Juniper Hill Arroyo | #2 | +6,242
Menual Detention Basin | Menual Detention Basin | #1 | +4,999 | Bernalillo County (Unincorporated Areas).
| Intersection of I25 and Menaul Detention Basin | #1 | +5,028
Mesa Del Sol Playa 1 | Approximately 1,800 feet from the City of Albuquerque and Kirtland Air Force Base on the Isleta Reservation Boundary | None | +5,257 | Bernalillo County (Unincorporated Areas).
Mesa Del Sol Playa 2 | Approximately 2.2 miles north of the Isleta Reservation Boundary and 1.5 miles east of the City of Albuquerque and Kirtland Air Force Base Boundary | None | +5,268 | Bernalillo County (Unincorporated Areas).
Mesa Del Sol Playa 3 | Approximately 1,400 feet from the City of Albuquerque and Kirtland Air Force Base to the east and coincident with the City of Albuquerque and Isleta Indian Reservation Boundary | None | +5,283 | Bernalillo County (Unincorporated Areas).
Middle Tributary of Boca Negra Arroyo | Approximately 250 feet downstream of the intersection of Rim Rock and Middle Tributary of Boca Negra Arroyo | None | +5296 | Bernalillo County (Unincorporated Areas).
| Approximately 375 feet upstream of the intersection of Boulevard De Oest Ln. and Middle Tributary of Boca Negra Arroyo | None | +5617
Pino Arroyo | Approximately 1,000 feet upstream of the intersection of Pino Arroyo and I25 | #3 | +5220 | Bernalillo County (Unincorporated Areas).
| Approximately 500 feet upstream of the intersection of Wyoming Blvd and Pino Arroyo | #2 | +5405
San Antonio Arroyo North | Confluence of San Antonio Arroyo North and San Antonio Arroyo South | None | +5119 | Bernalillo County (Unincorporated Areas).
| Approximately 2,000 feet upstream of the intersection of Carrick St. and San Antonio Arroyo North | #2 | +5182
San Antonio Arroyo South | Approximately 125 feet downstream of the intersection of Coors Blvd. and San Antonio Arroyo South | None | +5050 | Bernalillo County (Unincorporated Areas).
| Approximately 1,000 feet upstream of the intersection of Vulcan Rd. and San Antonio Arroyo South | #1 | +5167
San Pedro Creek | Intersection of Bus Lane and San Pedro Creek | None | +6858 | Bernalillo County (Unincorporated Areas).
| Intersection of Old Crest Rd. and San Pedro Creek | None | +6955
+North American Vertical Datum.
#Depth in feet above ground.
ADDRESSES
Unincorporated areas of Bernalillo County:
Maps are available for inspection at Bernalillo Public Works, 2400 Broadway SE., Albuquerque, NM 87102.
Send comments to Thaddeus Lucero, County Manager, Bernalillo County, 1 Civic Plaza NW., Albuquerque, NM 87102.
City of Albuquerque:
Maps are available for inspection at Plaza Del Sol, 600 2nd Street NW., Albuquerque, NM 87102.
Send comments to The Honorable Martin Chavez, Mayor, City of Albuquerque, 1 Civic Plaza, Albuquerque, NM 87102.
Fayette County, Texas and Incorporated Areas
Buckner's Creek | Confluence with Colorado River | None | *257 | Fayette County.
| Approximately 250 feet upstream of the intersection of FM609 and Buckner's Creek | None | *269
Colorado River | Approximately 1500 feet downstream from the confluence with Duty's Creek | None | *223 | Fayette County.
| Approximately 2.74 miles upstream from the confluence with Benton's Creek | None | *298
*National Geodetic Vertical Datum.
ADDRESSES
Unincorporated Areas of Fayette County:
Maps are available for inspection at 151 No. Washington Street, La Grange, TX 78945.
Send comments to The Honorable Ed Janecka, County Judge, Fayette County, 151 No. Washington Street, La Grange, TX 78945.
City of La Grange:
Maps are available for inspection at 155 Colorado, La Grange, TX 78945.
Send comments to The Honorable Janet Moerbe, Mayor, City of La Grange, 155 E. Colorado, La Grange, TX 78945.
Fayette Co. W.C. & I.D.—Monument Hill
Maps are available for inspection at 151 No. Washington Street, La Grange, TX 78945.
Send comments to The Honorable Ed Janecka, Judge, Fayette Co. W.C. & I.D.—Monument Hill, 151 No. Washington Street, La Grange, TX 78945.
Lubbock County, Texas and Incorporated Areas
Jones Warner Playa | Bordered by: Parklane Dr. to the west and south, Spur Ln. to the east and Lee Kitchens Dr. to the north | None | +3111 | Lubbock County.
Playa 26 | Bordered by: Highway 289 to the south, 62nd St. to the north, Peoria Ave. to the east, and Quaker Ave. to the west | *3234 | +3236 | Lubbock County.
Playa 44 | Bordered by: Brownfield Highway to the south, Raleigh Ave. to the west, Memphis Ave. to the east, and 13th St. to the north | *3227 | +3229 | Lubbock County.
Playa 47 | Confluence of Playa System C3 and Playa System C1 | *3249 | +3247 | Lubbock County.
Roche's Lake Playa | Bordered by: 13th St. to the east, Highway 84 to the south and west, and Geneva St. to the north | None | +3080 | Lubbock County.
Woodrow East Playa-Central | Approximately 1,750 feet southwest of the intersection of Highway 87 and Woodrow Rd | None | +3182 | Lubbock County.
Woodrow East Playa-East | Approximately 5,000 feet southwest of the intersection of Highway 87 and Woodrow Rd | None | +3194 | Lubbock County.
Woodrow East Playa-West | Intersection of Highway 87 and Woodrow Rd | None | +3180 | Lubbock County.
*National Geodetic Vertical Datum.
+North American Vertical Datum.
ADDRESSES
Unincorporated Areas of Lubbock County:
Maps are available for inspection at 904 Broadway, Room 101, Lubbock, TX 79408.
Send comments to The Honorable Tom Head, Judge, Lubbock County, 904 Broadway, Room 101, Lubbock, TX 79408.
City of Lubbock:
Maps are available for inspection at City Hall, 1625 13th Street, Room 107, Lubbock, TX 79401.
Send comments to The Honorable Marc McDougal, Mayor, City of Lubbock, 1625 13th Street, Lubbock, TX 79457.
City of Ransom Canyon:
Maps are available for inspection at 24 Lee Kitchens Drive, Ransom Canyon, TX 79366.
Send comments to The Honorable Robert Englund, Mayor, Town of Ransom Canyon, 24 Lee Kitchens Drive, Ransom Canyon, TX 79366.
City of Slaton:
Send comments to The Honorable Laura Wilson, Mayor, City of Slaton, 130 South 9th Street, Slaton, TX 79364.
Teton County, Wyoming and Unincorporated Areas
Flat Creek | Just upstream of High School Road | *6113 | *6113 | Teton County (Unincorporated Areas).
| Just upstream of U.S. Highway 26 | *6214 | *6214
Spring Creek | Approximately 1,400 feet downstream of Tribal Trail Road | *6126 | *6125 | Town of Jackson.
| Approximately 400 feet upstream of U.S. Highway 22 | *6158 | *6158
*National Geodetic Vertical Datum.
ADDRESSES
Unincorporated Areas of Teton County:
Maps are available for inspection at the Teton County Administration Building, 200 South Willow, Jackson, Wyoming 83001.
Send comments to The Honorable Larry Jorgenson, Chairman, Teton County Board of Commissioners, Teton County Administration Building, 200 South Willow, Jackson, Wyoming 83001.
Town of Jackson:
Maps are available for inspection at Town Hall, 150 East Pearl Avenue, Jackson, Wyoming 83001.
Send comments to The Honorable Mark Barron, Mayor, Town of Jackson, P.O. Box 1687, Jackson, Wyoming 83001.

(Catalog of Federal Domestic Assistance No. 83.100, “Flood Insurance.”)

Dated: March 20, 2006.
David I. Maurstad,
Acting Director, Mitigation Division, Federal Emergency Management Agency, Department of Homeland Security.

[FR Doc. E6-4357 Filed 3-24-06; 8:45 am]

BILLING CODE 9110-12-P